DEPARTMENT OF HOMELAND SECURITY

Federal Emergency Management Agency

[Docket ID FEMA-2014-0002; Internal Agency Docket No. FEMA-B-1422]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Massachusetts: Middlesex | Town of Holliston (13-01-2122P) | The Honorable Jay Leary, Chairman, Town of Holliston Board of Selectmen, 703 Washington Street, Holliston, MA 01746 | Town Hall, 703 Washington Street, Holliston, MA 01746 | http://www.msc.fema.gov/lomc | September 17, 2014 | 250195
New Mexico: Taos | Unincorporated Areas of Taos County (14-06-0477P) | The Honorable Gabriel J. Romero, Chairman, Taos County Commission, 105 Albright Street, Suite A, Taos, NM 87571 | Taos County Administrative Complex, 105 Albright Street, Suite H, Taos, NM 87571 | http://www.msc.fema.gov/lomc | August 22, 2014 | 350078
New York:
Rockland | Town of Ramapo (13-02-1859P) | The Honorable Christopher P. St. Lawrence, Supervisor, Town of Ramapo, 237 Route 59, Suffern, NY 10901 | Town of Ramapo Department of Public Works, 16 Pioneer Avenue, Tallman, NY 10982 | http://www.msc.fema.gov/lomc | October 16, 2014 | 365340
Rockland | Village of Hillburn (13-02-1859P) | The Honorable Craig M. Flanagan, Jr., Mayor, Village of Hillburn, 31 Mountain Avenue, Hillburn, NY 10931 | Village Hall, 31 Mountain Avenue, Hillburn, NY 10931 | http://www.msc.fema.gov/lomc | October 16, 2014 | 360683
Oklahoma:
Canadian | City of Oklahoma City (12-06-2730P) | The Honorable Mick Cornett, Mayor, City of Oklahoma City, 200 North Walker Avenue, 3rd Floor, Oklahoma City, OK 73102 | 420 West Main Street, Suite 700, Oklahoma City, OK 73102 | http://www.msc.fema.gov/lomc | August 18, 2014 | 405378
Garvin | City of Pauls Valley (13-06-3636P) | The Honorable Gary Alfred, Mayor, City of Pauls Valley, P.O. Box 778, Pauls Valley, OK 73075 | City Hall, 100 West Paul Avenue, Pauls Valley, OK 73075 | http://www.msc.fema.gov/lomc | August 29, 2014 | 400246
Texas:
Bexar | City of San Antonio (13-06-3484P) | The Honorable Julián Castro, Mayor, City of San Antonio, P.O. Box 839966, San Antonio, TX 78283 | Department of Public Works, Storm Water Engineering, 1901 South Alamo Street, 2nd Floor, San Antonio, TX 78204 | http://www.msc.fema.gov/lomc | August 25, 2014 | 480045
Dallas | City of Garland (13-06-4174P) | The Honorable Douglas Athas, Mayor, City of Garland, 200 North 5th Street, Garland, TX 75040 | 800 Main Street, Garland, TX 75040 | http://www.msc.fema.gov/lomc | September 5, 2014 | 485471
Dallas | City of Sachse (13-06-4174P) | The Honorable Mike Felix, Mayor, City of Sachse, 3815 Sachse Road, Building B, Sachse, TX 75048 | 3815 Sachse Road, Building B, Sachse, TX 75048 | http://www.msc.fema.gov/lomc | September 5, 2014 | 480186
Denton | City of Celina (13-06-4215P) | The Honorable Sean Terry, Mayor, City of Celina, 142 North Ohio Street, Celina, TX 75009 | City Hall, 142 North Ohio Street, Celina, TX 75009 | http://www.msc.fema.gov/lomc | September 2, 2014 | 480133
Denton | City of Denton (13-06-3803P) | The Honorable Mark A. Burroughs, Mayor, City of Denton, 215 East McKinney Street, Denton, TX 76201 | 901-A Texas Street, Denton, TX 76209 | http://www.msc.fema.gov/lomc | July 28, 2014 | 480194
Denton | City of Denton (14-06-0807P) | The Honorable Mark A. Burroughs, Mayor, City of Denton, 215 East McKinney Street, Denton, TX 76201 | 901-A Texas Street, Denton, TX 76209 | http://www.msc.fema.gov/lomc | September 22, 2014 | 480194
Denton | City of Frisco (13-06-3033P) | The Honorable Maher Maso, Mayor, City of Frisco, 6101 Frisco Square Boulevard, Frisco, TX 75034 | City Hall, 6101 Frisco Square Boulevard, Frisco, TX 75034 | http://www.msc.fema.gov/lomc | August 18, 2014 | 480134
Denton | City of Frisco (14-06-0032P) | The Honorable Maher Maso, Mayor, City of Frisco, 6101 Frisco Square Boulevard, Frisco, TX 75034 | City Hall, 6101 Frisco Square Boulevard, Frisco, TX 75034 | http://www.msc.fema.gov/lomc | August 25, 2014 | 480134
Denton | Unincorporated Areas of Denton County (13-06-3803P) | The Honorable Mary Horn, Denton County Judge, 110 West Hickory Street, 2nd Floor, Denton, TX 76201 | Denton County Government Center, 1505 East McKinney Street, Suite 175, Denton, TX 76209 | http://www.msc.fema.gov/lomc | July 28, 2014 | 480774
Denton | Unincorporated Areas of Denton County (13-06-4215P) | The Honorable Mary Horn, Denton County Judge, 110 West Hickory Street, 2nd Floor, Denton, TX 76201 | Denton County Government Center, 1505 East McKinney Street, Suite 175, Denton, TX 76209 | http://www.msc.fema.gov/lomc | September 2, 2014 | 480774
Denton | Unincorporated Areas of Denton County (14-06-0807P) | The Honorable Mary Horn, Denton County Judge, 110 West Hickory Street, 2nd Floor, Denton, TX 76201 | Denton County Government Center, 1505 East McKinney Street, Suite 175, Denton, TX 76209 | http://www.msc.fema.gov/lomc | September 22, 2014 | 480774
Guadalupe | City of Cibolo (13-06-4035P) | The Honorable Lisa M. Jackson, Mayor, City of Cibolo, 200 South Main Street, Cibolo, TX 78108 | 200 South Main Street, Cibolo, TX 78108 | http://www.msc.fema.gov/lomc | September 3, 2014 | 480267
Guadalupe | Unincorporated Areas of Guadalupe County (13-06-4035P) | The Honorable Larry Jones, Guadalupe County Judge, 211 West Court Street, Seguin, TX 78155 | Guadalupe County, 2605 North Guadalupe Street, Seguin, TX 78155 | http://www.msc.fema.gov/lomc | September 3, 2014 | 480266
Harris | City of Houston (13-06-2759P) | The Honorable Annise D. Parker, Mayor, City of Houston, P.O. Box 1562, Houston, TX 77251 | Public Works and Engineering Department, 611 Walker Street, Houston, TX 77002 | http://www.msc.fema.gov/lomc | September 15, 2014 | 480296
Harris | Unincorporated Areas of Harris County (13-06-2759P) | The Honorable Ed M. Emmett Harris, County Judge, 1001 Preston Street, Suite 911, Houston, TX 77002 | Harris County, 10555 Northwest Freeway, Houston, TX 77092 | http://www.msc.fema.gov/lomc | September 15, 2014 | 480287
Harris | Unincorporated Areas of Harris County (13-06-4636P) | The Honorable Ed M. Emmett Harris, County Judge, 1001 Preston Street, Suite 911, Houston, TX 77002 | Harris County, 10555 Northwest Freeway, Houston, TX 77092 | http://www.msc.fema.gov/lomc | August 21, 2014 | 480287
Harris | Unincorporated Areas of Harris County (14-06-1079P) | The Honorable Ed M. Emmett Harris, County Judge, 1001 Preston Street, Suite 911, Houston, TX 77002 | Harris County, 10555 Northwest Freeway, Houston, TX 77092 | http://www.msc.fema.gov/lomc | September 15, 2014 | 480287
Montgomery | City of Conroe (13-06-3145P) | The Honorable Webb K. Melder, Mayor, City of Conroe, P.O. Box 3066, Conroe, TX 77305 | City Hall, 505 West Davis Street, Conroe, TX 77301 | http://www.msc.fema.gov/lomc | August 21, 2014 | 480484
Terrell | Unincorporated Areas of Terrell County (13-06-3003P) | The Honorable Santiago Flores, Terrell County Judge, 105 East Hackberry Street, Sanderson, TX 79848 | Terrell County Courthouse, County Clerk's Office, 105 East Hackberry Street, Sanderson, TX 79848 | http://www.msc.fema.gov/lomc | September 26, 2014 | 480619

(Catalog of Federal Domestic Assistance No. 97.022, “Flood Insurance.”)

Dated: June 17, 2014.
Roy E. Wright,
Deputy Associate Administrator for Mitigation, Department of Homeland Security, Federal Emergency Management Agency.

[FR Doc. 2014-16319 Filed 7-11-14; 8:45 am]

BILLING CODE 9110-12-P